FEDERAL TRADE COMMISSION

Granting of Request for Early Termination of the Waiting Period Under the Premerger Notification Rules

Section 7A of the Clayton Act, 15 U.S.C. 18a, as added by Title II of the Hart-Scott-Rodino Antitrust Improvements Act of 1976, requires persons contemplating certain mergers or acquisitions to give the Federal Trade Commission and the Assistant Attorney General advance notice and to wait designated periods before consummation of such plans. Section 7A(b)(2) of the Act permits the agencies, in individual cases, to terminate this waiting period prior to its expiration and requires that notice of this action be published in the Federal Register.

The following transactions were granted early termination of the waiting period provided by law and the premerger notification rules. The grants were made by the Federal Trade Commission and the Assistant Attorney General for the Antitrust Division of the Department of Justice. Neither agency intends to take any action with respect to these proposed acquisitions during the applicable waiting period.

Trans # | Acquiring | Acquired | Entities
Transactions Granted Early Termination—06/11/2007
20071367 | Littlejohn Fund III, L.P | Intertape Polymer Group Inc | Intertape Polymer Group Inc.
20071374 | Liberty Mutual Holding Company Inc | Ohio Casualty Corporation | Ohio Casualty Corporation.
20071390 | Ascension Health | Marian Health System | Via Christi Health System, Inc.
20071391 | Commonwealth Bank of Australia | Joseph D. Samberg | Dimensional Music Publishing, LLC.
20071410 | Audax Private Equity Fund II, L.P | AIS Holdings Corp | AIS Holdings Corp.
20071421 | National Grid plc | KeySpan Corporation | KeySpan Corporation.
20071436 | Microsoft Corporation | SAVVIS, Inc | SAVVIS Communication Corporation.
20071438 | Providence E q u i t y Partners VI (Umbrella US) LP | Clear Channel Communications, Inc | ABO Broadcasting Operations, LLC, Ackerley Broadcasting Fresno, LLC, AK Mobile Television, Inc., Bel Meade Broadcasting, Inc., Capstar Radio Operating Company, Capstar TX Limited Partnership, CCB Texas Licenses, L.P., Central NY News, Inc., Citicasters Co., Clear Channel Broadcasting, Inc., Clear Channel Broadcasting Licenses, Inc., Clear Channel Investments, Inc.
20071444 | Agilysys, Inc | Innovative Systems Design, Inc | Innovative Systems Design, Inc.
20071445 | Edam Acquisition B.V | Telefonica, S.A | Endemol Investment Holding B.V.
20071447 | Motorola, Inc | Modulus Video, Inc | Modulus Video, Inc.
20071449 | J.C. Flowers I LP | Citigroup, Inc | The BISYS Insurance Services Holding Corp., BISYS Retirement Services Holding Corp., PJ Robb Variable, Inc., Tri-City Acquisition, Inc.
20071455 | Citigroup Inc | The BISYS Group, Inc | The BISYS Group, Inc.
20071457 | Behrman Capital III L.P | Randy Mooney, Trustee Appointer/Genesis Charities I/T | Covenant Health & Rehab of Vickburg, LP, Parkway North Associates Ltd. Partnership, Tapestry Concepts, LLC, Trinity Mission Health & Rehab of Connersville, L.P., Trinity Mission Health & Rehab of Edgefield, LP, Trinity Mission Health & Rehab of Holly, LP, Trinity Mission Health & Rehab of Midland, LP, Trinity Mission Health & Rehab of Picayune, LP, Trinity Mission Health & Rehab of Portland, LP, Trinity Mission Health & Rehab of Provo, LP, Trinity Mission New Paris Residential Care Facility, LP, Trinity Mission Wide Horizons Residential Care Facility, LP.
20071458 | Behrman Capital III L.P | Rebecca J. Johnson, Trustee Appointer/LKJ Irrevocable Trust | Covenant Health & Rehab of Vicksburg, LP, Parkway North Associates Limited Partnership, Tapestry Concepts, LLC, Trinity Mission Health & Rehab of Connersville, LP, Trinity Mission Health & Rehab of Edgefield, LP, Holly LP, Trinity Mission Health & Rehab of Holly, LP, Trinity Mission Health & Rehab of Midland, LP, Trinity Mission Health & Rehab of Picayune, LP, Trinity Mission Health & Rehab of Portland, LP, Trinity Mission Health & Rehab of Roy, LP, Trinity Mission New Paris Residential Care Facility, LP, Trinity Mission Wide Horizons Residential Care Facility, LP.
20071459 | Behrman Capital III L.P | L.P.N.H. Holdings Limited, LLC | Cornerstone Health & Rehab of Corinth, LLC, Crown Health & Rehab of Natchez, LLC, Crystal Health & Rehab of Greenwood, LLC, Dove Health & Rehab of Collierville, LLC, Grace Health & Rehab of Grenada, LLC, Joy Health & Rehab of Cleveland, LLC, Liberty Health & Rehab of Indianola, LLC, Oasis Health & Rehab of Yazoo City, LLC, Rainbow Health & Rehab of Memphis, LLC, Song Health & Rehab of Columbia, LLC, Tapestry Concepts, LLC, Trinity Mission Health & Rehab of Clinton, LLC, Trinity Mission Health & Rehab of Great Oaks, LLC, Trinity Mission Health & Rehab of Holly Springs, LLC, Trinity Mission of Burleson, LP, Trinity Mission of Charlottsville, L.P., Trinity Mission of Comfort, LP, Trinity Mission of Diboll, LP, Trinity Mission of Farmville, L.P., Trinity Mission of Granbury, LP, Trinity Mission of Hillsville, L.P., Trinity Mission of Italy, LP, Trinity Mission of Rocky Mount, L.P., Trinity Mission of Winnsboro, LP.
20071460 20071461 | Visa Europe Limited Behrman Capital III L.P | Visa Inc Mid-South Associates, LLC | Visa Inc., Clinton Partners, L.L.C., MSCHCA of Pennsylvania, L.P., VACH, LP, VAF, LP, VARM, LP.
20071467 | Arlington Capital Partners II, L.P | Radio One, Inc | Blue Chip Broadcasting Licenses, Ltd., Blue Chip Broadcasting, Ltd., Hawes-Saunders Broadcast Properties, Inc., Radio One of Dayton Licenses, LLC.
20071469 | Eni S.p.A | Dominion Resources, Inc | Dominion Exploration & Productions, Inc.
20071475 | Blackstone Capital Partners V L.P | Alliance Data Systems Corporation | Alliance Data Systems Corporation.
Transactions Granted Early Termination—06/12/2007
20071379 | Honeywell International Inc | Dimensions International, Inc | Dimensions International, Inc.
20071450 | CACI International Inc | The Wexford Group International, Inc | The Wexford Group International, Inc.
20071478 | Regis Corporation | EEG, Inc | EEG, Inc.
20071482 | Resource America, Inc | Pacific Capital Bancorp | Pacific Capital Bancorp.
20071483 | Littlejohn Fund III, L.P | Van Houtte Inc | Van Houtte Inc.
20071502 | Franklin K. Schoeneman | EEG, Inc | EEG, Inc.
Transactions Granted Early Termination—06/13/2007
20071395 | Dr. Phillip Frost | Ladenburg Thalmann Financial Services Inc | Ladenburg Thalmann Financial Services Inc.
20071414 | Medical Staffing Network Holdings, Inc | Carlyle Partners III, L.P | InteliStaf Holdings, Inc.
Transactions Granted Early Termination—06/14/2007
20071399 | CG Investor, LLC | DaimlerChrysler AG | DaimlerChrysler Holding LLC
20071402 | Apax Europe VII-B, L.P | 2003 TIL Settlement | The Gale Group Inc, Thomson Global Resources, Thomson Learning Holdings B.V., Thomson Learning Inc.
20071427 | Windjammer Senior Equity Fund III, L.P | ShoreView Capital Partners, L.P | SV-BBB Holdings, Inc.
20071430 | Taiheiyo Cement Corporation | ShoreView Capital Partners, L.P | Shoreview-Angelle Holdings Corp.
20071484 | Providence Equity Partners V L.P | DRI Holdings, Inc | DRI Holdings, Inc.
Transactions Granted Early Termination—06/15/2007
20071394 | Castlerigg International Limited | Fair Isaac Corporation | Fair Isaac Corporation.
20071485 | Cardtronics, Inc | Seven & i Holdings Co., Ltd | 7-Eleven, Inc., Vcom Financial Services, Inc.
20071492 | SEI-TCV Holding Corporation | John W. O'Brien | Harmonic Investment Management, Inc. R.J. O'Brien Alternative Asset Management, Inc., R.J. O'Brien & Associates, Inc., R.J. O'Brien Financial, LLC, R.J. O'Brien Foreign Exchange, Inc., R.J. O'Brien Fund Management, Inc., R.J. O'Brien International, Ltd., R.J. O'Brien Securities, Inc.
20071494 | AG Private Equity Partners III, L.P | National Home Health Care Corp | National Home Health Care Corp.
20071499 | Owl Creek Overseas Fund, Ltd | Lacy J. Harber | TIMCO Aviation Services, Inc.
20071500 | JLL Partners Fund V, L.P | GTCR Fund VII, L.P | Skylight Financial, Inc.
20071509 | Leeds Equity Partners IV, L.P | elnstruction Holdings, LLC | eInstruction Holdings, Inc.
20071513 | Fenway Partners Capital Fund III, L.P | 1-800 CONTACTS, INC | 1-800 CONTACTS, INC.
20071527 | Prospect Medical Holdings, Inc | Samuel S. Lee | Alta Healthcare System, Inc.
20071528 | Prospect Medical Holdings, Inc | David & Alexa Topper Family Trust, U/D/T September 29, 1997 | Alta Healthcare System, Inc.
20071529 | MedAssets, Inc | Joseph H. Davi | MD-X Services, Inc., MD-X Solutions, Inc., MD-X Strategies, Inc., Mid-X Systems, Inc., Solutions Services and Strategies, the “MD-X Companies”.
Transactions Granted Early Termination—06/18/2007
20071355 | Mustang Holding Company Inc | SLM Corporation | SLM Corporation.
20071373 | Comcast Corporation | Cablevision Systems Corporation | Pacific Regional Programming Partners.
20071403 | Husky Energy Inc | Valero Energy Corporation | Lima Refining Company.
20071435 | Emerson Electric Co | Stratos International, Inc | Stratos International, Inc.
20071491 | Isis Pharmaceuticals, Inc | Symphony Capital Partners, L.P | Symphony Genisis, Inc.
20071495 | Associated Wholesale Grocers, Inc | AB Acquisition LLC | ABS DFW Investor LLC, ABS DFW Lease Investor LLC, ABS DFW Lease Owner LLC, ABS DFW Owner LLC, ABS TX Investor LP, Albertson's LLC.
20071525 | Tricor Pacific Capital Partners (Fund IV) | Antonio Accornero | CPI Card Group-Nevada, Inc., CPI Holding Co.
Transactions Granted Early Termination—06/19/2007
20070976 | Meggitt PLC | K&F Industries Holdings, Inc | K&F Industries Holdings, Inc.
20071474 | NHC Leveraged Employee Stock Ownership Plan & Trust | National HealthCare Corporation | National HealthCare Corporation.
Transactions Granted Early Termination—06/20/2007
20071420 | Henry Ford Health System | Trinity Health—Michigan | Mercy Mount Clemens Corporation, Chemtura Canada Co./CIE, Chemtura Corporation, S.A. de C.V., Chemtura Industria Quimica do Brasil Limitada, Chemtura Netherlands B.V., Monochem, Inc.
20071456 | Payless ShoeSource, Inc | The Stride Rite Corporation | The Stride Rite Corporation.
20071472 | Oil States International, Inc | R.H. McGee | Schooner International, Inc., Schooner Petroleum Services, Inc.
20071498 | Avista Capital Partners, L.P | Geokinetics, Inc | Geokinetics, Inc.
20071514 | Catholic Health Initiatives | Marian Health System, Inc | Saint Clare's Health System.
20071521 | Atlas America, Inc | Atlas Pipeline Mid-Continent WestOk, LLC | Atlas Pipeline Mid-Continent WestOk, LLC.
20071522 | Atlas America, Inc | Atlas Pipeline Mid-Continent WestTex, LLC | Atlas Pipeline Mid-Continent WestTex, LLC.
20071524 | SEACOR Holdings Inc | Nabors Industries Ltd | Nabors US Finance LLC.
20071526 | Quintana Energy Partners, L.P | Industrial Growth Partners II, L.P | AmerCable Incorporated.
20071531 | The Bear Stearns Companies Inc | The Williams Companies, Inc | Williams Power Company, Inc.
Transactions Granted Early Termination—06/21/2007
20071454 | Pearson plc | eCollege.com | eCollege.com.
Transactions Granted Early Termination—06/22/2007
20071470 | Oracle Corporation | Agile Software Corporation | Agile Software Corporation.
20071481 | Schering-Plough Corporation | Novacea, Inc | Novacea, Inc.
20071489 | David and Gail Liniger | Donald and Glenda Hachenberger | RE/MAX Carolina, Inc., RE/MAX of Florida, Inc.
20071501 | ValueAct Capital Master Fund, L.P | Advanced Medical Optics, Inc | Advanced Medical Optics, Inc.
20071534 | Wind Point Partners VI, L.P | Wicks Communications & Media Partners, L.P | Wicks Business Information, LLC.
20071535 | W. Andrew Adams | National HealthCare Corporation | National HealthCare Corporation.
20071541 | The Williams Companies, Inc | BASF Aktiengesellschaft | BASF Corporation.
20071545 | AIF VI Euro Holdings L.P | EGL, Inc | EGL, Inc.
20071546 | Steel Dynamics, Inc | The Resolute, Fund, L.P | The Techs Holdings, Inc.
20071547 | ValueAct Capital Master Fund, L.P | Acxiom Corporation | Acxiom Corporation.
20071555 | Champion Industries, Inc | FIF III Liberty Holding LLC | GMI, GMWV.
20071557 | NC VI Limited | Cruise Luxco 1 S.a.r.l | Thule AB.
20071559 | Sprint Nextel Corporation | St. Cloud Wireless Holding, LLC | Northern PCS Services, LLC.
20071563 | Sensata Investment Company, S.C.A | William Blair Capital Partners VII QP, L.P | Airpax Holdings, Inc.
20071570 | Blackstone Capital Partners V L.P | Lindsay Goldberg & Bessemer L.P | Alliant Holdings I, Inc.
20071571 | Wachovia Corporation | A.G. Edwards, Inc | A.G. Edwards, Inc.
20071575 | Macquarie Infrastructure Company Trust | San Jose Jet Center, Inc | SJJC Aviation Services, LLC.
20071586 | Cenveo, Inc | Christopher N. Madison and Lois A. Madison | Madison/Graham ColorGraphics, Inc.
Transactions Granted Early Termination—06/25/2007
20071572 | Gryphon Partners III, L.P. | Sheplers, Inc | Sheplers, Inc.
Transactions Granted Early Termination—06/27/2007
20071480 | Williams Partners L.P | Discovery Producer Services LLC | Discovery Producer Services LLC.
20071508 | Providence Equity Partners VI L.P | WCAS IX | US Investigations Services, Inc.
20071515 | Universal Compression Partners, L.P | Universal Compression Holdings, Inc. | UCI Compressor Holding, L.P., UCO Compression 2005, Universal Compression 2005.
20071538 | AmQuip Holdings LLC | Joseph L. Wesley, Sr | AmQuip Corporation, Boston AmQuip LLC, Elliott AmQuip Corporation.
Transactions Granted Early Termination—06/28/2007
20071441 | Danaher Corporation | ChemTreat, Inc. | ChemTreat, Inc.
20071451 | Highstar Harbor Holdings III, Inc | Christopher R. Redlich, Jr | MTC Holdings Starboard Insurance Company.
20071479 | San Faustin N.V | Grupo Imsa, S.A.B. de C.V | Grupo Imsa, S.A.B. de C.V.
20071532 | Stelar Holding Corp | WDF Holding Corp | WDF Holding Corp.
20071536 | MMI Investments, L.P | Acxiom Corporation | Acxiom Corporation.
20071537 | ABRY Partners V, L.P | Bursten Family Limited Partnership II | Cyrus Networks, LLC, Southwest Freeway Building, L.P.
20071556 | WDF Holding Corp | Stelar Holding Corp | Stelar Holding Corp.
20071565 | 2003 Riverside Capital Appreciation Fund, L.P | Peter J. Roth | Altelicon, Inc., Hyperlink Technologies, Inc., Sharper Concepts, Inc.
20071568 | Rexam PLC | Owens-Illinois, Inc | Ol Plastic Products FTS Inc.
20071574 | Sierra Holdings Corp | Avaya Inc | Avaya Inc.
Transactions Granted Early Termination—06/29/2007
20071564 | DENTSPLY International Inc | Paul A. Seid | Sultan Healthcare, Inc.
Transactions Granted Early Termination—07/02/2007
20071462 | Robert Miller Spousal Trust | Exar Corporation | Exar Corporation.
20071468 | Graeme Hart | AT&T Inc | Blue Ridge Holding Corp.
20071510 | Marmon Holding, Inc | Capstone Advisory Group, LLC | KX Industries, Limited Partnership, KX Realty LLC.
20071548 | BE III 6 F.C.P.R | Citigroup Inc | Designed Metal Connections Inc.
20071576 | Audax Private Equity Fund II, L.P | Metal Resources LLC | Michigan Seamless Tube LLC.
20071578 | Peper Jaffray Companies | Charles D. Walbrandt | Fiduciary Asset Management, LLC.
20071579 | CONSOL Energy Inc | AMVEST Corporation | AMVEST Corporation.
20071580 | C/R Stallion Investment Partnership, L.P | Richard E. Agee | Bayou Tank Company, Bayou Tank Services, Ltd.
20071582 | PNM Resources, Inc | Dynegy Inc. | CoGen Lyondell, LLC.
20071583 | William H. Gates, III | Dynegy Inc | CoGen Lyondell, LLC.
20071590 | News Corporation | Photobucket.com, Inc | Photobucket.com, Inc.
20071593 | Kellwood Company | Hanna Andersson Corporation | Hanna Andersson Corporation.
20071597 | Perry Partners International, Inc | Universal American Financial Corp | Universal American Financial Corp.
20071598 | Perry Partners, L.P | Universal American Financial Corp | Universal American Financial Corp.
20071601 | Pro Acquisition Corporation | The Home Depot, Inc | CND Holdings, Inc., HD Supply, Inc., Homer TLC, Inc.
20071607 | TD AMERITRADE Holding Corporation | Fiserv, Inc | Fiserv Trust Company.
Transactions Granted Early Termination—07/03/2007
20070837 | Hanover Compressor Company | Universal Compression Holdings, Inc | Universal Compression Holdings, Inc.
20070838 | Universal Compression Holdings, Inc | Hanover Compressor Company | Hanover Compressor Company.
20071506 | KASLION S.a.r.L | DSP Group Inc | DSP Group Inc.
20071511 | J&F Participacoes S.A | Hicks, Muse, Tate & Furst Equity Fund V, L.P | Swift Foods Company.
20071588 | Cleveland-Cliffs Inc | PinnOak Resources, LLC | PinnOak Resources, LLC.
20071599 | C/R Stallion Investment Partnership, L.P | Terry G. Bailey | Salty's Manufacturing, Ltd., Salty's Well Hill No. 1, Ltd., Salty's Well Parker No. 1, Ltd., Salty's Well Service, Ltd.
20071602 | C/R Stallion Investment Partnership, L.P | Envirovac, Ltd | Salty's Manufacturing, Ltd., Salty's Well Hill No. 1, Ltd., Salty's Well Johnson No. 1, Ltd., Salty's Well Johnson No. 2, Ltd., Salty's Well Johnson No. 3, Ltd., Salty's Well Johnson No. 4, Ltd., Salty's Well Nacogdoches 1, Ltd., Salty's Well Panola 1, Ltd., Salty's Well Parker No. 1, Ltd., Salty's Well Service, Ltd., Salty's Well Shelby No. 1, Ltd.
Transactions Granted Early Termination—07/05/2007
20071519 | Carlyle Partners IV, L.P | JP Morgan Chase & Co | Niagara Holdings, Inc.
Transactions Granted Early Termination—07/06/2007
20071520 | Saudi Basic Industries Corporation | General Electric Company | GE Entities.

FOR FURTHER INFORMATION CONTACT: Sandra M. Peay, Contact Representative, or Renee Hallman, Contact Representative. Federal Trade Commission, Premerger Notification Office, Bureau of Competition, Room H-303, Washington, DC 20580, (202) 326-3100.

By direction of the Commission.
Donald S. Clark,
Secretary.

[FR Doc. 07-3435 Filed 7-13-07; 8:45 am]

BILLING CODE 6750-01-M